DEPARTMENT OF THE INTERIOR

National Park Service

[N6967; NPS-WASO-NAGPRA-NPS0042109; PPWOCRADN0-PCU00RP14.R50000]

Notice of Intended Repatriation: Cincinnati Museum Center, Cincinnati, OH

AGENCY: National Park Service, Interior.

ACTION: Notice.

SUMMARY: In accordance with the Native American Graves Protection and Repatriation Act (NAGPRA), the Cincinnati Museum Center intends to repatriate certain cultural items that meet the definition of sacred objects and that have a cultural affiliation with the Native Hawaiian organizations in this notice.

DATES: Repatriation of the cultural items in this notice may occur on or after April 1, 2026.

ADDRESSES: Send additional, written requests for repatriation of the cultural items in this notice to Tyler Swinney, Cincinnati Museum Center, 1301 Western Avenue, Cincinnati, OH 45203, email tswinney@cincymuseum.org.

SUPPLEMENTARY INFORMATION: This notice is published as part of the National Park Service's administrative responsibilities under NAGPRA. The determinations in this notice are the sole responsibility of the Cincinnati Museum Center, and additional information on the determinations in this notice, including the results of consultation, can be found in the summary or related records. The National Park Service is not responsible for the determinations in this notice.

Abstract of Information Available

A total of 10 cultural items have been requested for repatriation. The 10 sacred objects are two poi pounders, three adzes, two bowling stones, one octopus lure sinker, one wood platter, and one whale tooth pendant necklace. These cultural items were collected from the Hawaiian Islands and donated to the museum by Thomas Conway, Leland Banning, and Amos Brokaw and were accessioned in 1994, 1939, and 2019, respectively. The Cincinnati Museum Center has no records indicating that these cultural items were exposed to any hazardous substances while in the stewardship of the museum.

Through consultation, it has been determined that these cultural items qualify as sacred items because of their ceremonial function during the `ike pāpālua ceremonies, where traditional leaders renew the ceremony of spiritual communication with the ancestors.

Determinations

The Cincinnati Museum Center has determined that:

• The 10 sacred objects described in this notice are specific ceremonial objects needed by a traditional Native American religious leader for present-day adherents to practice traditional Native American religion, according to the Native American traditional knowledge of a lineal descendant, Indian Tribe, or Native Hawaiian organization.

• There is a connection between the cultural items described in this notice and the Hui Iwi Kuamo`o.

Requests for Repatriation

Additional, written requests for repatriation of the cultural items in this notice must be sent to the authorized representative identified in this notice under ADDRESSES. Requests for repatriation may be submitted by any lineal descendant or Native Hawaiian organization not identified in this notice who shows, by a preponderance of the evidence, that the requestor is a lineal descendant or a culturally affiliated Native Hawaiian organization.

Repatriation of the cultural items in this notice to a requestor may occur on or after April 1, 2026. If competing requests for repatriation are received, the Cincinnati Museum Center must determine the most appropriate requestor prior to repatriation. Requests for joint repatriation of the cultural items are considered a single request and not competing requests. The Cincinnati Museum Center is responsible for sending a copy of this notice to the Native Hawaiian organizations identified in this notice and to any other consulting parties.

Authority: Native American Graves Protection and Repatriation Act, 25 U.S.C. 3004 and the implementing regulations, 43 CFR 10.9.

Dated: February 20, 2026.
Melanie O'Brien,
Manager, National NAGPRA Program.

[FR Doc. 2026-04053 Filed 2-27-26; 8:45 am]

BILLING CODE 4312-52-P